NATIONAL TRANSPORTATION SAFETY BOARD

Sunshine Act Meetings

TIME AND DATE: 9:30 a.m., Tuesday, July 23, 2019.

PLACE: NTSB Conference Center, 429 L'Enfant Plaza SW, Washington, DC 20594.

STATUS: The one item is open to the public.

MATTERS TO BE CONSIDERED:

59351 Railroad Accident Report—Amtrak Passenger Train Head-on Collision with Stationary CSX Freight Train, Cayce, South Carolina, February 4, 2018.

CONTACT PERSON FOR MORE INFORMATION: Candi Bing at (202) 314-6403 or by email at bingc@ntsb.gov.

Media Information Contact: Keith Holloway by email at hollowk@ntsb.gov or Eric Weiss by email at eric.weiss@ntsb.gov or at (202) 314-6100.

The press and public may enter the NTSB Conference Center one hour prior to the meeting for set up and seating.

Individuals requesting specific accommodations should contact Rochelle McCallister at (202) 314-6305 or by email at Rochelle.McCallister@ntsb.gov by Wednesday, July 17, 2019.

The public may view the meeting via a live or archived webcast by accessing a link under “News & Events” on the NTSB home page at www.ntsb.gov.

Schedule updates, including weather-related cancellations, are also available at www.ntsb.gov.

The National Transportation Safety Board is holding the meeting under the Government in the Sunshine Act, 5 U.S.C. 552(b).

Dated: July 8, 2019.
LaSean McCray,
Assistant Federal Register Liaison Officer.

[FR Doc. 2019-14748 Filed 7-8-19; 4:15 pm]

BILLING CODE 7533-01-P